DEPARTMENT OF ENERGY

Office of Energy Efficiency and Renewable Energy

[Docket No. EERE-2015-BT-BC-0002]

DOE Proposals for the 2018 International Energy Conservation Code (IECC)

AGENCY: Office of Energy Efficiency and Renewable Energy, Department of Energy.

ACTION: Notice of availability; webinar and public meeting.

SUMMARY: The U.S. Department of Energy (DOE) participates in the public process administered by the International Code Council (ICC), which produces the International Energy Conservation Code (IECC). DOE published a notice in the Federal Register on April 14, 2015 outlining the process by which the Department will participate in the development of the 2018 IECC. This notice builds upon the previous notice in identifying several events surrounding development of DOE proposals for the 2018 IECC, including the availability of draft proposals and supporting analysis, as well as upcoming stakeholder meetings.

DATES: DOE will host the following events:

• Webinar: Introduction of initial DOE Concepts under consideration for the 2018 IECC:

Date: Thursday, May 28, 2015

• Stakeholder Meeting: Public meeting for interested parties to present their concepts for the 2018 IECC, and to encourage an exchange of ideas amongst stakeholders:

Date: June 15-16, 2015

Location: Denver, Colorado

ADDRESSES: Advanced registration is required for both the webinar and stakeholder meeting. For more information on registering, please see the SUPPLEMENTARY INFORMATION section of this notice. The stakeholder meetings will be held at the Crowne Plaza Denver Downtown, 1450 Glenarm Place, Denver, Colorado 80202.

Interested parties are invited to submit comments on DOE proposals for the IECC. Any comments submitted must reference the Notice for DOE Proposals for the 2018 International Energy Conservation Code (IECC), docket number EERE-2015-BT-BC-0002. Comments may be submitted by using either of the following methods:

1. Federal eRulemaking Portal: http://www.regulations.gov/#!docketDetail;D=EERE-2015-BT-BC-0002. Follow the instructions for submitting comments.

2. Email: IECC2015BC0002@ee.doe.gov. Include EERE-2015-BT-BC-0002 in the subject line of the message.

Instructions: All submissions received must include the agency name (U.S. DOE), docket number (EERE-2015-BT-BC-0002), and applicable DOE proposal ID numbers (see SUPPLEMENTARY INFORMATION section of this notice for additional instructions).

FOR FURTHER INFORMATION CONTACT: Jeremiah Williams; U.S. Department of Energy, Office of Energy Efficiency and Renewable Energy, Building Technologies Office, EE-5B, 1000 Independence Avenue SW., Washington, DC 20585; Telephone: (202) 287-1941; Email: jeremiah.williams@ee.doe.gov.

For legal issues: Kavita Vaidyanathan; U.S. Department of Energy, Office of the General Counsel, Forrestal Building, GC-33, 1000 Independence Avenue SW., Washington, DC 20585; Telephone: (202) 586-0669; Email: kavita.vaidyanathan@hq.doe.gov.

SUPPLEMENTARY INFORMATION: The U.S. Department of Energy (DOE) participates in the public process administered by the International Code Council (ICC) which produces the International Energy Conservation Code (IECC). As a participant in this process, the Department considers and evaluates concepts it is considering submitting as proposed changes to the IECC. DOE published a notice in the Federal Register on April 14, 2015, outlining the process by which the Department will participate in the development of the 2018 IECC (80 FR 19972). DOE has published its initial concepts at the DOE Building Energy Codes Program Web site and has scheduled several events to discuss 2018 IECC development.

Availability of DOE Proposals for the 2018 IECC

The Department will continue to publish its proposals and supporting information as it becomes available over the coming months. As information will be updated continually, interested parties are urged to monitor the DOE Building Energy Codes Program Web site and associated stakeholder mailing lists:

• DOE Proposal Web page: www.energycodes.gov/development/2018IECC.

• Stakeholder Updates: http://www.energycodes.gov/news.

Submitting Comments on DOE Proposals for the IECC

Interested parties are invited to submit comments on DOE proposals by email or public docket, as outlined in the ADDRESSES section of this notice. Comments will be accepted beginning immediately upon publication of this notice, and ongoing through later this year. To allow adequate time to prepare and publish final proposals, the Department will specify a comment deadline on the DOE Proposal Web page. Further instructions for submitting comments on DOE proposals, including identifiers (e.g., DOE proposal numbers) and associated deadlines, are provided on the above DOE Proposal Web page. All DOE proposals and supporting information will be made available to the general public prior to submission to the ICC.

Webinar and Stakeholder Meeting

The Department will host a webinar to present its initial concepts for the 2018 IECC. During the webinar, DOE will present an overview of each concept under consideration for a potential code change proposal. In addition, the Department will convene a public meeting during which stakeholders can present their concepts for the 2018 IECC. As part of these meetings, DOE will also present its own concepts. The goal of the meetings will be to encourage communication amongst stakeholders. These events are scheduled as follows:

Webinar: Introduction of initial DOE concepts under consideration for the 2018 IECC: Thursday, May 28, 2015.

• Commercial Session: 1:00-2:30 p.m. (EDT).

Registration: https://attendee.gotowebinar.com/register/5677147236967231233.

• Residential Session: 3:30-5:00 p.m. (EDT).

Registration: https://attendee.gotowebinar.com/register/3937419675150886145.

Stakeholder Meeting: Public meeting for interested parties to present their concepts for the 2018 IECC.

Location: Crowne Plaza Denver Downtown, 1450 Glenarm Place, Denver, CO 80202.

• Residential Session: Monday, June 15th from 1:00-5:00 p.m. (MDT).

• Commercial Session: Tuesday, June 16th from 8:00 a.m.-2:00 p.m. (MDT).

(Note: If residential requests for presentation time exceed commercial requests, the residential session may continue on Tuesday morning at 8:00 a.m. MDT.)

Advanced registration is required for the webinar and stakeholder meeting—please register early so that time may be allotted for stakeholder presentations. DOE will both moderate and participate in these events.

More information on the Department's support for building energy codes, including participation in the development of model codes, is available on the DOE Building Energy Codes Program Web site, www.energycodes.gov.

Issued in Washington, DC, on May 21, 2015.
Roland Risser,
Director, Building Technologies Office, Energy Efficiency & Renewable Energy.

[FR Doc. 2015-13103 Filed 5-29-15; 8:45 am]

BILLING CODE 6450-01-P